DEPARTMENT OF COMMERCE

National Oceanic and Atmospheric Administration

[RTID 0648-XC170]

Pacific Fishery Management Council; Public Meeting

AGENCY: National Marine Fisheries Service (NMFS), National Oceanic and Atmospheric Administration (NOAA), Commerce.

ACTION: Notice of public meeting.

SUMMARY: The Pacific Fishery Management Council's (Pacific Council) Scientific and Statistical Committee's (SSC's) Groundfish Subcommittee will hold an online meeting to discuss coordination of ageing efforts to inform 2023 and 2025 groundfish stock assessments.

DATES: The online meeting will be held on Thursday, August 11, 2022, from 9 a.m. to 12 p.m., Pacific Daylight Time.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. John DeVore, Staff Officer, Pacific Council; telephone: (503) 820-2413.

SUPPLEMENTARY INFORMATION: The SSC's Groundfish Subcommittee will discuss the availability of ageing structures collected by the states and NMFS in fishery sampling and surveys that may inform stock assessments prioritized for 2023 and 2025. The SSC's Groundfish Subcommittee will recommend how ageing labs should prioritize the ageing of these structures to optimize the availability of data for 2023 and 2025 stock assessments. These recommendations will be provided to the SSC and the Pacific Council for their deliberations at their September meetings.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

(Authority: 16 U.S.C. 1801 et seq.)

Dated: July 21, 2022.
Rey Israel Marquez,
Acting Deputy Director, Office of Sustainable Fisheries, National Marine Fisheries Service.

[FR Doc. 2022-15979 Filed 7-25-22; 8:45 am]

BILLING CODE 3510-22-P